DEPARTMENT OF TRANSPORTATION

Federal Aviation Administration

Notice of Availability of an Environmental Assessment (EA) and Finding of No Significant Impact/Record of Decision (FONSI/ROD) Executed by the Federal Aviation Administration (FAA) for the Evaluation of Environmental Impacts Associated With a Proposed Extension of Runway 10R/28L for the Capital City Airport Located in Lansing, MI

AGENCY: Federal Aviation Administration, Department of Transportation.

ACTION: Notice of availability of an EA and FONSI/ROD executed by the FAA for the evaluation of environmental impacts associated with a proposed extension of Runway 10R/28L for the Capital City Airport located in Lansing, Michigan.

SUMMARY: The FAA is making available an EA and FONSI/ROD for the evaluation of environmental impacts associated with a proposed extension to runway 10R/28L executed by the FAA, for the Capital City Airport located in Lansing, Michigan.

Point of Contact: Mr. Brad Davidson, Environmental Protection Specialist, FAA Great Lakes Region, Detroit Airports District Office, 11677 South Wayne Road, Suite 107, Romulus, MI 48174 (734) 229-2900.

SUPPLEMENTARY INFORMATION: The FAA is making available an EA and FONSI/ROD for the evaluation of environmental impacts associated with a proposed extension to Runway 10R/28L, executed by the FAA, for the Capital City Airport located in Lansing, Michigan. The purpose of the EA and FONSI/ROD was to evaluate potential environmental impacts arising from the proposed airport improvement project involving an extension to Runway 10R/28L.

These documents will be available during normal business hours at the following location: FAA Detroit Airports District Office, 11677 South Wayne Road, Suite 107, Romulus, MI 48174.

Due to current security requirements, arrangements must be made with the point of contact prior to visiting this office.

Issued in Detroit, Michigan, June 16, 2005.
Irene R. Porter,
Manager, Detroit Airport District Office, FAA, Great Lakes Region.

[FR Doc. 05-12885 Filed 6-29-05; 8:45 am]

BILLING CODE 4910-13-M